DEPARTMENT OF COMMERCE

International Trade Administration

Notice of Scope Rulings

AGENCY: Import Administration, International Trade Administration, Department of Commerce.

EFFECTIVE DATE: August 3, 2007.

SUMMARY: The Department of Commerce (“Department”) hereby publishes a list of scope rulings completed between April 1, 2007, and June 30, 2007. In conjunction with this list, the Department is also publishing a list of requests for scope rulings and anticircumvention determinations pending as of June 30, 2007. We intend to publish future lists after the close of the next calendar quarter.

FOR FURTHER INFORMATION CONTACT: Juanita H. Chen, AD/CVD Operations, SEC Office, Import Administration, International Trade Administration, U.S. Department of Commerce, 14th Street and Constitution Avenue, N.W., Washington, DC 20230; telephone: 202-482-1904.

SUPPLEMENTARY INFORMATION:

Background

The Department's regulations provide that the Secretary will publish in the Federal Register a list of scope rulings on a quarterly basis. See 19 C.F.R. 351.225(o). Our most recent notification of scope rulings was published on May 1, 2007. See Notice of Scope Rulings, 72 FR 23802 (May 1, 2007). This current notice covers all scope rulings and anticircumvention determinations completed by Import Administration between April 1, 2007, and June 30, 2007, inclusive, and it also lists any scope or anticircumvention inquiries pending as of June 30, 2007. As described below, subsequent lists will follow after the close of each calendar quarter.

Scope Rulings Completed Between April 1, 2007, and June 30, 2007:

People's Republic of China

A-570-504: Petroleum Wax Candles from the People's Republic of China

Requestor: Musical Candle Company; its musical candle is included within the scope of the antidumping duty order; April 6, 2007.

A-570-504: Petroleum Wax Candles from the People's Republic of China

Requestor: H S Candle, Inc.; its Wedding Cake (item WD008); Wedding Carriage (item WD011); Bride & Groom Wedding Cake Topper (item WD006); Wedding Bells (item WD012); and Pillow with Rings (item WD026) candles from its “Wedding Candle” series, and its Champagne Bottle in Ice Bucket (item HS028) from its “Holiday Candle” series, are not within the scope of the antidumping duty order; May 10, 2007.

A-570-504: Petroleum Wax Candles from the People's Republic of China

Requestor: FashionCraft-Excello, Inc.; its flip flops (pink, blue, orange, or yellow; item #8820), wedding cake (white, ivory, pink or silver; item #8205, 8206, 8207, and 3875), baby bottle (pink or blue; item #3867, and 3868), pears (item #8201), rubber duckie (item #8209), coach (silver or gold; item #3854 and 3855), baby carriage (pink or blue; item #3852 and 3853), and teddy bear on a rocking horse (pink or blue; item #3863 and 3864) candles are not within the scope of the antidumping duty order; April 11, 2007.

A-570-803: Heavy Forged Hand Tools from the People's Republic of China

Requestor: Cummins Industrial Tools; the 10-ton log splitter is not within the scope of the antidumping duty order; June 1, 2007.

A-570-803: Heavy Forged Hand Tools from the People's Republic of China

Requestor: Agri-Fab; the Tow Behind Log Splitter is not within the scope of the antidumping duty order; June 1, 2007.

A-570-826: Paper Clips from the People's Republic of China

Requestor: Esselte Corporation; the Pendaflex® Pile Smart™ Label Clips are not within the scope of the antidumping duty order; May 1, 2007.

A-570-890: Wooden Bedroom Furniture from the People's Republic of China

Requestor: Target Corporation; the products in its “Manhattan Collection” (which consists of a bench, computer cart, bookcase, modular room divider and desk) are not within the scope of the antidumping duty order; June 11, 2007.

A-570-891: Hand Trucks from the People's Republic of China

Requestor: Ameristep Corporation, Inc.; its “non-typical” deer cart (product no. 7800) and its “grizzly” deer cart (product no. 9800) are not within the scope of the antidumping duty order; May 18, 2007.

A-570-891: Hand Trucks from the People's Republic of China

Requestor: Bond Street Ltd.; the Stebco portable slide-flat cart (style no. 390009CHR) is included within the scope of the antidumping duty order; May 30, 2007.

A-570-901: Lined Paper Products from the People's Republic of China

Requestor: Lakeshore Learning Materials; certain printed educational materials, product numbers GG823 (Blank Writing Journal); RR801ML2 (Writing Journal); AA953ML3 (Diario para Escribir); GG528JNL (Vacation Journal); GG381JRN (Science Journal); RR969 and RR968 (My Math Journal); GG145 and GG146 (Math Journal, Grades 4 - 6); EE372 (Poetry Journal); GG154 and GG155 (Improve Your Writing Word Blank Journal); LA125 (Stamp, Draw, & Write Story Center); EE419 (Letter Writing Supply Kit); GG241JNL (Reading Journal); AA559 (Cursive Writing Letter Practice Book); AA558 (1 to 30 Printing Numbers Practice Book); AA565 (Lowercase Printing Letters Practice Book); and AA555 (Uppercase Printing Letters Practice Book), are not within the scope of the antidumping duty order; May 7, 2007.¹

¹ Certain printed education materials, product numbers JJ537; JJ538; JJ342; JJ343; JJ225; JJ226; JJ2206; JJ2207; JJ255; JJ258, are not eligible for a scope ruling because they are in development and have not yet been produced.

A-570-901: Lined Paper Products from the People's Republic of China

Requestor: Avenues in Leather, Inc.; its padfolios which contain one pad of paper (whether or not the pad of paper meets the description of merchandise covered by the scope of the order) are not within the scope of the antidumping duty order; May 8, 2007.

Multiple Countries

A-122-503: Certain Iron Construction Castings from Canada; A-351-503 and C-351-504: Certain Iron Construction Castings from Brazil; A-570-502: Iron Construction Castings from the People's Republic of China

Requestor: Deeter Foundry, Inc., East Jordan Iron Works, Inc., LeBaron Foundry, Inc., Leed Foundry, Inc., Municipal Castings, Inc., Neenah Foundry Company, Tyler Pipe Company, and U.S. Foundry & Manufacturing Co.; iron construction castings made of gray and ductile cast iron are included within the scope of the antidumping and countervailing duty orders; May 3, 2007.

Anticircumvention Determinations Completed Between April 1, 2007, and June 30, 2007:

People's Republic of China

A-570-504: Petroleum Wax Candles from the People's Republic of China

Requestor: National Candle Association; candles assembled in the United States from molded or carved articles of wax (a.k.a. wickless wax forms) from the PRC are circumventing the antidumping duty order; May 30, 2007.

Scope Inquiries Terminated Between April 1, 2007, and June 30, 2007:

People's Republic of China

A-570-864: Pure Magnesium in Granular Form from the People's Republic of China

Requestor: ESM Group Inc.; October 18, 2006, Final Scope Ruling on whether atomized ingots are included within the scope of the antidumping duty order rescinded and vacated; April 18, 2007.²

² On November 16, 2006, Reade Manufacturing Company and Hart Metals, Inc. filed suit with the U.S. Court of International Trade, Reade Manufacturing Co. v. United States, Ct. No. 06-420, alleging they were interested parties who were not served the request for a scope ruling. On April 3, 2007, the Department entered into a Joint Stipulation for Entry of Judgment, pursuant to which the Department would rescind and vacate its Final Scope Ruling, effective October 18, 2006.

A-570-891: Hand Trucks from the People's Republic of China

Requestor: American Lawn Mower Company; whether its “Collect-It Garden Waste Remover” is within the scope of the antidumping duty order; requested March 28, 2007.³

³ This scope request was not eligible for a scope ruling because the “Collect-It Garden Waste Remover” was not yet in production.

Anticircumvention Inquiries Terminated Between April 1, 2007, and June 30, 2007:

None.

Scope Inquiries Pending as of June 30, 2007:

Belgium

A-423-808 and C-423-809: Stainless Steel Plate in Coils from Belgium

Requestor: Ugine & ALZ Belgium N.V.; whether stainless steel products with an actual thickness of less than 4.75 mm, regardless of nominal thickness, are within the scope of the antidumping and countervailing duty orders; requested June 8, 2007.

Italy

A-475-703: Granular Polytetrafluoroethylene Resin from Italy

Requestor: Petitioner, E.I. DuPont de Nemours & Company; whether imports of Polymist[reg] feedstock produced by the respondent Solvay Solexis, Inc. and Solvay Solexis S.p.A are within the scope of the antidumping duty order; requested August 18, 2006; initiated October 2, 2006.

Japan

A-588-702: Stainless Steel Butt-Weld Pipe Fittings from Japan

Requestor: Kuze Bellows Kogyosho Co., Ltd.; whether its “Kuze Clean Fittings” for automatic welding are within the scope of the antidumping duty order; requested March 26, 2007.

A-588-804: Ball Bearings and Parts Thereof from Japan

Requester: Toyota Tsusho America Inc.; whether steel balls used in automobile vents are within the scope of the antidumping order; requested April 23, 2007; initiated May 18, 2007.

People's Republic of China

A-570-502: Iron Construction Castings from the People's Republic of China

Requestor: A.Y. McDonald Mfg. Co.; whether cast iron lids and bases independently sourced from the PRC for its “Arch Pattern” and “Minneapolis Pattern” curb boxes are included within the scope of the antidumping duty order; requested April 2, 2007.

A-570-504: Petroleum Wax Candles from the People's Republic of China

Requestor: Enchante Accessories, Inc.; whether its palm oil wax candle is included within the scope of the antidumping duty order; requested January 29, 2007; initiated April 30, 2007.

A-570-504: Petroleum Wax Candles from the People's Republic of China

Requestor: Wedding Brand Investors LLC; whether white or ivory pillars and tapers are included within the scope of the antidumping duty order; requested June 12, 2007.

A-570-801: Cased Pencils from the People's Republic of China

Requestor: Walgreen Co.; whether the “Artskills™ Draw & Sketch Kit” is included within the scope of the antidumping duty order; requested May 25, 2007.

A-570-801: Cased Pencils from the People's Republic of China

Requestor: Walgreen Co.; whether the “Artskills™ Stencil Kit” is included within the scope of the antidumping duty order; requested May 25, 2007.

A-570-803: Heavy Forged Hand Tools With or Without Handles from the People's Republic of China

Requestor: Fiskars Brands, Inc.; whether a stamped machete, gator machete, and brush axe are included within the scope of the antidumping duty order; requested June 26, 2007.

A-570-848: Freshwater Crawfish Tailmeat from the People's Republic of China

Requestor: Maritime Products International; whether breaded crawfish tailmeat is included within the scope of the antidumping duty order; requested November 8, 2006; initiated December 18, 2006.

A-570-864: Pure Magnesium in Granular Form from the People's Republic of China

Requestor: ESM Group Inc.; whether atomized ingots are included within the scope of the antidumping duty order; original scope ruling rescinded and vacated April 18, 2007⁴; initiated April 18, 2007.

⁴ See “Scope Inquiries Terminated Between April 1, 2007 and June 30, 2007” section, above.

A-570-866: Folding Gift Boxes from the People's Republic of China

Requestor: Footstar; whether certain boxes for business cards and forms are included within the scope of the antidumping duty order; requested April 26, 2007.

A-570-866: Folding Gift Boxes from the People's Republic of China

Requestor: Hallmark Cards, Inc.; whether its “FunZip” gift presentation is included within the scope of the antidumping duty order; requested June 1, 2007.

A-570-868: Folding Metal Tables and Chairs from the People's Republic of China

Requestor: International E-Z Up, Inc.; whether its Instant Work Bench is included within the scope of the antidumping duty order; requested April 6, 2007.

A-570-882: Refined Brown Aluminum Oxide from the People's Republic of China

Requestor: 3M Company; whether certain semi-friable and heat-treated, specialty aluminum oxides are included within the scope of the antidumping duty order; requested September 19, 2006; initiated January 17, 2007.

A-570-886: Polyethylene Retail Carrier Bags from the People's Republic of China

Requestor: Asia Dynamics, Inc.; whether certain hospital patient belongings bags (model nos. 304211, 304311, 304411, 304611, 304711, 304811, 40219, 40229) are included within the scope of the antidumping duty order; requested May 23, 2007.

A-570-886: Polyethylene Retail Carrier Bags from the People's Republic of China

Requestor: DMS Holdings, Inc.; whether certain MABIS Healthcare hospital bags (biohazard disposal bag nos. 75-860-010, 75-860-080, 75-864-080; isolation bag no. 75-850-000; patient set-up bag nos. 75-833-000, 75-842-000, 75-970-550, 75-973-550, 75-979-550; personal belongings bag nos. 75-010-850, 75-011-850, 75-013-850, 75-014-850, 75-019-850, 75-032-850, 75-033-850, 75-036-850, 75-037-850, 75-038-850, 75-046-850, 75-047-850, 75-075-850, 75-105-850, 75-109-850, 75-110-850, 75-111-850, 75-117-850, 75-118-850, 75-120-850, 75-834-000, 75-838-000, 75-839-000, 75-844-000, 75-845-000, 75-847-000; kit packing bag nos.75-801-000, 75-802-000, 75-803-000, 75-804-000, 75-862-000, 75-863-000, 75-865-000) are included within the scope of the antidumping duty order; requested June 8, 2007.

A-570-886: Polyethylene Retail Carrier Bags from the People's Republic of China

Requestor: Medline Industries, Inc.; whether certain hospital patient belongings bags and surgical kit bags (drawstring bags model nos. DS500C, DS400C, DONDS600, 38667, 7510, 42818, 25117, 28614, 42817; rigid handle bag model no. 26900) are included within the scope of the antidumping duty order; requested June 18, 2007.

A-570-890: Wooden Bedroom Furniture from the People's Republic of China

Requestor: AP Industries; whether convertible cribs (model nos. 1000-0100; 1000-0125; 1000-0160; 1000-1195/2195; 1000-2145; and 1000-2165) are included within the scope of the antidumping duty order; requested June 26, 2007.

A-570-891: Hand Trucks from the People's Republic of China

Requestor: Northern Tool & Equipment Co.; whether a high-axle torch cart (item #164771) is included within the scope of the antidumping duty order; requested March 27, 2007.

A-570-898: Chlorinated Isocyanurates from the People's Republic of China

Requestor: BioLab, Inc.; whether chlorinated isocyanurates originating in the People's Republic of China, that are packaged, tableted, blended with additives, or otherwise further processed in Canada before entering the U.S., are included within the scope of the antidumping duty order; requested November 22, 2006; initiated March 9, 2007.

A-570-901: Lined Paper Products from the People's Republic of China

Requestor: Lakeshore Learning Materials; whether certain printed educational materials, product numbers RR973 and RR974 (Reader's Book Log); GG185 and GG186 (Reader's Response Notebook); GG181 and GG182 (The Writer's Notebook); RR673 and RR674 (My Word Journal); AA185 and AA186 (Mi Diario de Palabras); RR630 and RR631 (Draw & Write Journal); AA786 and AA787 (My First Draw & Write Journal); AA181 and AA182 (My Picture Word Journal); GG324 and GG325 (Writing Prompts Journal); EE441 and EE442 (Daily Math Practice Journal Grades 1 - 3); EE443 and EE444 (Daily Math Practice Journal Grades 4 - 6); EE651 and EE652 (Daily Language Practice, Grades 1-3); EE653 and EE654 (Daily Language Practice Journal, Grades 4 - 6), are included within the scope of the antidumping duty order; requested December 7, 2006; initiated May 7, 2007.

A-570-901: Lined Paper Products from the People's Republic of China

Requestor: Bond Street Ltd.; whether its writing cases (previously found to be not included within the scope when containing writing pads with a backing, provided that they do not have a front cover and/or they consist of hole-punched or drilled filler paper), which contain writing tablets 2i and 2ii (previously found to be included within the scope), are included within the scope of the antidumping duty order; requested December 22, 2006.

A-570-904: Activated Carbon from the People's Republic of China

Requestor: Cherishment, Inc.; whether a certain type of patented activated carbon (192 patent HTCC product) is included within the scope of the antidumping duty order; requested June 1, 2007.

Multiple Countries

A-533-809: Certain Forged Stainless Steel Flanges from India; A-583-821: Certain Forged Stainless Steel Flanges from Taiwan

Requestor: Lokring Technology Corporation; whether certain assemblies comprising stainless steel flanges from India or Taiwan welded to stainless steel “half-bodies” with swage rings, and completed in Canada, are within the scope of the order; requested June 26, 2007.

Anticircumvention Rulings Pending as of June 30, 2007:

People's Republic of China

A-570-001: Potassium Permanganate from the People's Republic of China

Requestor: Specialty Products International, Inc.; whether sodium permanganate is later-developed merchandise that is circumventing the antidumping duty order; requested October 10, 2006.

A-570-868: Folding Metal Tables and Chairs from the People's Republic of China

Requestor: Meco Corporation; whether the common leg table (a folding metal table affixed with cross bars that enable the legs to fold in pairs) produced in the PRC is a minor alteration that circumvents the antidumping duty order; requested October 31, 2005; initiated June 1, 2006.

A-570-894: Certain Tissue Paper Products from the People's Republic of China

Requestor: Seaman Paper Company; whether imports of tissue paper from Vietnam made out of jumbo rolls of tissue paper from the PRC are circumventing the antidumping duty order; requested July 19, 2006; initiated September 5, 2006.

A-570-901: Lined Paper Products from the People's Republic of China

Requestor: Association of American School Suppliers, whether imports of notebooks and filler paper from Taiwan are circumventing the antidumping duty order; requested January 16, 2007.

Interested parties are invited to comment on the completeness of this list of pending scope and anticircumvention inquiries. Any comments should be submitted to the Deputy Assistant Secretary for AD/CVD Operations, Import Administration, International Trade Administration, 1401 Constitution Avenue, N.W., Room 1870, Washington, DC 20230.

This notice is published in accordance with 19 C.F.R. 351.225(o).

Dated: July 27, 2007.
Stephen J. Claeys,
Deputy Assistant Secretary for Import Administration.

[FR Doc. E7-15159 Filed 8-2-07; 8:45 am]

BILLING CODE 3510-DS-P